DEPARTMENT OF ENERGY

National Nuclear Security Administration

Proposed Subsequent Arrangement

AGENCY: National Nuclear Security Administration, Department of Energy.

ACTION: Proposed subsequent arrangement.

SUMMARY: This document is being issued under the authority of the Atomic Energy Act of 1954, as amended. The Department is providing notice of a proposed subsequent arrangement under the Agreement for Cooperation between the Government of the United States of America and the Government of the Republic of Korea Concerning Peaceful Uses of Nuclear Energy.

DATES: This subsequent arrangement will take effect no sooner than October 30, 2019.

FOR FURTHER INFORMATION CONTACT: Mr. Sean Oehlbert, Office of Nonproliferation and Arms Control, National Nuclear Security Administration, Department of Energy. Telephone: 202-586-3806 or email: sean.oehlbert@nnsa.doe.gov.

SUPPLEMENTARY INFORMATION: This proposed subsequent arrangement concerns the retransfer of 18,742 grams uranium, 129 grams U-235, and 230 grams plutonium of United States origin contained in irradiated fuel rods, from KEPCO Nuclear Fuel Co., Ltd. in Daejon, Republic of Korea, to Studsvik Nuclear AB, in Nykoping, Sweden. The irradiated fuel rods, which are currently located at KEPCO Nuclear Fuel Co. in Daejon, Republic of Korea, will be used for testing the fuel cladding, guide tubes, and spacer grids by Studsvik Nuclear AB, in Nykoping, Sweden. After testing, the irradiated fuel rods will be stored at Studsvik Nuclear AB, in Nykoping, Sweden for a period of five years, after which the fuel rods will be moved to permanent disposal. Upon transfer to Sweden, the irradiated fuel rods will be subject to the Agreement for Cooperation in the Peaceful Uses of Nuclear Energy between the United States of America and the European Atomic Energy Community.

Pursuant to the authority in section 131 a. of the Atomic Energy Act of 1954, as delegated, I have determined that this proposed subsequent arrangement concerning the retransfer of irradiated nuclear material of United States origin will not be inimical to the common defense and security of the United States of America.

Dated: September 12, 2019.
For the Department of Energy.
Brent K. Park,
Deputy Administrator, Defense Nuclear Nonproliferation.

[FR Doc. 2019-22431 Filed 10-11-19; 8:45 am]

BILLING CODE 6450-01-P